ENVIRONMENTAL PROTECTION AGENCY

[ER-FRL-6634-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-E60006-KY Rating EC2, Daniel Boone National Forest Land Exchange Project, Exchanging two Federal Tracts for 98.17 Acres of Privately Owned Land located in Owsley County, Federal Lands to be considered are Tract 107AB (52.15 acres) located on Langdon Branch in Leslie County and Tract 745 (39.96 acres) located on Spicer Fork in Perry County, KY.

Summary

EPA expressed environmental concerns with potential adverse impacts from the proposed land exchange and reasonably foreseeable surface mining activities on the long-term quality of headwater streams. The final EIS should describe how the water quality of Buckhorn Lake will be protected.

ERP No. D-AFS-F65032-MN Rating EC2, Holmes/Chipmunk Timber Sale Project, Implementation, Superior National Forest, LaCroix Ranger District, Saint Louis County, MN.

Summary

EPA expressed environmental concerns with potential impacts to 219 acres of wetlands under the preferred alternative. The final EIS should describe restoration methodologies and the details of contingency mitigation measures.

ERP No. D-BLM-G65083-NM Rating EC2, Farmington Resource Management Plan, Implementation, Managing Public Lands within the Farmington Field Office (FFO) Boundaries and Federal Oil and Gas Resources within the New Mexico Portion of San Juan Basin, San Juan, McKinley, Rio Arriba and Sandoval Counties, NM.

Summary

EPA expressed environmental concerns for potential impacts to water quality, riparian habitat and air quality. The final EIS should give more detail on mitigation measures and discuss contrasts between the various alternatives.

ERP No. D-FHW-E40320-NC Rating EO1, US 321 Highway Improvement Project (TIP), from NC-1500 (Blackberry Road) north to U.S. 221 in Blowing Rock, Funding and U.S. Army COE Section 404 Permit Issuance, Town of Blowing Rock, Caldwell and Watauga Counties, NC.

Summary

EPA expressed environmental objections to Alternative 4A due to impact to the Blue Ridge Escarpment and cut-and fill construction.

ERP No. D-FHW-E40795-NC Rating EC2, US-17 Interstate Corridor Improvements, south of NC-1127 (Possum Track Road) to north of NC-1418 (Roberson Road) Funding and Permit Issuance, City of Washington and Town of Chocowinity Vicinity, Beaufort and Pitt Counties, NC.

Summary

EPA had environmental concerns and requested more information regarding noise analysis, farmland losses, and mitigation of potential impacts.

ERP No. D-FHW-K40252-CA Rating EO2, Willits Freeway Bypass Project, Construction and Operation of a New Segment of U.S. 101, Funding, U.S. Army COE Section 404 Permit, NPDES Permit and Endangered Species Act Incidental Take Permit, City of Willits, Mendocino County, CA.

Summary

EPA expressed environmental objections to the magnitude of impact to waters of the U.S. from the proposed project. Additionally, sufficient information regarding feasibility and commitment to appropriate mitigation measures was not provided. EPA had concerns about the scope of analysis, indirect and cumulative impacts, and the avoidance and minimization of these impacts.

ERP No. D-NPS-K65365-AZ Rating LO, Navajo National Monument, General Management Plan and Development Concept Plan, Implementation, Navajo Counties, AZ.

Summary

EPA expressed lack of objections and supports protecting cultural and natural resources and providing improved visitor services by emphasizing partnerships with tribes and other stakeholders.

ERP No. D-USN-D52000-00 Rating EC1, Introduction of F/A 18 E/F (Super Hornet) Aircraft, Replacing the F-14 (TOMCAT) and F/A-18 C/D (Hornet) Aircraft, Homebasing and Operation, Possible Homebase sites include Naval Air Station (NAS) Oceana, VA; Marine Corps Air Station (MCAS) Beaufort, SC and MCAS Cherry Point.

Summary

EPA expressed environmental concern regarding noise impacts associated with the introduction of the Super Hornet aircraft. EPA believes that Alternative 6 would have lesser overall adverse consequences to the natural environment than Alternative 4A.

Final EISs

ERP No. F-AFS-F05123-00, Adoption—Bond Falls Hydroelectric Project, New License Issuance for an Existing Hydroelectric License (FECR No. 1864-005), Ontonagon River Basin, Ontonagon and Gogebic Counties, MI and Vilas County, WI.

Summary

EPA has no objections to this project. The project has not changed significantly since the Draft stage.

ERP No. F-BIA-K65237-CA, Agua Caliente Indian Reservation Project, Proposed Section 14 Specific Plan and Master Development Plan, Agua Caliente Band of Cahulla Indians, City of Palm Springs, Riverside County, CA.

Summary

EPA expressed continued environmental concerns about impacts to air quality and water sustainability. EPA requested that BIA address the applicability of the Clean Air Act's General Conformity Rule and discuss current regional water management efforts in the Record of Decision.

ERP No. F-BLM-J02011-00, Programmatic EIS—Southern Ute Indian Reservation Oil and Gas Development, Implementation, San Juan Basin, LaPlata, Archuleta, Montezuma Counties, CO and Rio Arriba and San Juan Counties, NM.

Summary

EPA continues to express environmental concerns about uncontrolled methane migration to the surface. The final EIS does include additional information on wetland impacts and avoidance and permitting procedures in response to EPA comments on the DEIS.

ERP No. F-FAA-K51040-CA, Santa Barbara Airport Improvements, Extension of Runway Safety Areas for Runway 7/25, Expansion of the Airline Terminal Building, Construction of New Cargo Building, New Taxiway M, New On-Airport Service Road and Additional T-Hangers and Pavement of Taxiway B, Funding and U.S. Army COE Section 404 and 10 Permits Issuance, Santa Barbara County, CA.

Summary

EPA had no objections to the proposed action. EPA did request that the Record of Decision address whether further air quality mitigation measures by the airport are feasible and available to reduce non-project-related emissions at the airport; and whether FAA can assist in the implementation of additional air quality-related mitigation measures.

ERP No. F-FHW-C40152-NJ, NJ-52(1) Causeway (known as MacArthur Boulevard) Construction Project, between NJ-9 in Somers Point, Atlantic County to Bay Avenue in Ocean City, Cape May County, Funding, U.S. Army COE Section 404 and 10 Permits and U.S. Coast Guard Permit Issuance, Atlantic and Cape May Counties, NJ.

Summary

EPA expressed no further concerns regarding the project as proposed.

Dated: October 8, 2002.
Joseph C. Montgomery,
Director, NEPA Compliance Division, Office of Federal Activities.

[FR Doc. 02-26000 Filed 10-10-02; 8:45 am]

BILLING CODE 6560-50-U